ENVIRONMENTAL PROTECTION AGENCY

40 CFR Part 81

[EPA-R02-OAR-2010-0688; FRL-9223-7]

Approval and Promulgation of One-Year Extension for Attaining the 1997 8-Hour Ozone Standard for the New Jersey Portion of the Philadelphia-Wilmington-Atlantic City Moderate Nonattainment Area

AGENCY: Environmental Protection Agency (EPA).

ACTION: Proposed rule.

SUMMARY: Under the Clean Air Act, EPA is proposing to approve an extension from June 15, 2010 to June 15, 2011 of the applicable attainment date for the New Jersey portion of the Philadelphia-Wilmington-Atlantic City 1997 8-hour ozone nonattainment area (Philadelphia Area), which is classified as moderate nonattainment for the 1997 8-hour ozone national ambient air quality standard (NAAQS). This proposed extension is based in part on complete, quality-assured air quality data recorded during the 2009 ozone season. In accordance with requirements for a 1-year extension, the Philadelphia Area's 4th highest daily 8-hour monitored ozone value during the 2009 ozone season at each monitor in the area is less than 0.084 parts per million (ppm). If EPA finalizes this proposed approval of the attainment date extension, EPA will revise the table with regard to the 8-hour ozone attainment dates for the New Jersey portion of the Philadelphia Area.

DATES: Comments must be received on or before December 9, 2010.

ADDRESSES: Submit your comments, identified by Docket ID number EPA-R02-OAR-2010-0688, by one of the following methods:

• http://www.regulations.gov: Follow the on-line instructions for submitting comments.

• E-mail: Werner.Raymond@epa.gov.

• Fax: 212-637-3901.

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 a.m. to 4:30 p.m. excluding Federal holidays.

Instructions: Direct your comments to Docket ID No. EPA-R02-OAR-2010-0688. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 2 Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Paul Truchan, Air Programs Branch, Environmental Protection Agency, 290 Broadway, 25th Floor, New York, New York 10007-1866, (212) 637-4249; e-mail address: Truchan.Paul@epa.gov.

SUPPLEMENTARY INFORMATION:

I. New Jersey's Request for Attainment Date Extension for the Philadelphia Area

On June 23, 2010, the State of New Jersey requested a one-year attainment date extension for the Philadelphia Area. The Philadelphia Area, which is classified as moderate for the 1997 8-hour ozone National Ambient Air Quality Standards (NAAQS), consists of Cecil County in Maryland; Bucks, Chester, Delaware, Montgomery and Philadelphia Counties in Pennsylvania; the entire State of Delaware; and Atlantic, Burlington, Camden, Cape May, Cumberland, Gloucester, Mercer, Ocean, and Salem Counties in New Jersey. Since this area was classified as a moderate ozone nonattainment area, the statutory ozone attainment date, as prescribed by section 181(a) of the Clean Air Act (CAA), is June 15, 2010. New Jersey requested that the attainment date be extended to June 15, 2011.

II. CAA Requirements and EPA Actions Regarding One-Year Extensions

Section 181(a)(5) of the CAA provides for a 1-year extension of the applicable attainment date for an ozone nonattainment area if the State has complied with the requirements in the applicable implementation plan and there is no more than one exceedance of the NAAQS in the year preceding the extension year. 40 CFR 51.907 sets forth how section 181(a)(5) applies to an area subject to the 1997 8-hour ozone NAAQS. Under 40 CFR 51.907, an area will meet the requirement of section 181(a)(5)(B) of the CAA pertaining to one-year extensions of the attainment date if:

(a) For the first 1-year extension, the area's 4th highest daily 8-hour average in the attainment year is 0.084 parts per million (ppm) or less,

(b) For the second 1-year extension, the area's 4th highest daily 8-hour value, averaged over both the original attainment year and the first extension year, is 0.084 ppm or less.

(c) For purposes of paragraphs (a) and (b) of this section, the area's 4th highest daily 8-hour average shall be from the monitor with the highest 4th highest daily 8-hour average of all the monitors that represent that area.

EPA's review of the actual ozone air quality data in the Air Quality System shows that the 4th highest daily average 8-hour ozone concentrations for the 2009 attainment year ozone season, for all monitors in the Philadelphia Area measured less than 0.084 ppm (Table 1), as required by 40 CFR 51.907(a). The highest-reading monitoring site had a 4th high value for 2009 of 0.074 ppm (Bucks/Pennsylvania). The monitoring data has been quality-controlled and quality-assured.

Table 1—Monitoring Data for 8-Hour Ozone in the Philadelphia Area
Site ID | County/state | Year | 4th Max 8-hr (ppm)
10-001-0002 | Kent/Delaware | 2009 | .066
10-003-1007 | New Castle/Delaware | 2009 | .068
10-003-1010 | New Castle/Delaware | 2009 | .068
10-003-1013 | New Castle/Delaware | 2009 | .069
10-005-1002 | Sussex/Delaware | 2009 | .067
10-005-1003 | Sussex/Delaware | 2009 | .069
24-015-0003 | Cecil/Maryland | 2009 | .072
42-017-0012 | Bucks/Pennsylvania | 2009 | .074
42-029-0100 | Chester/Pennsylvania | 2009 | .067
42-045-0002 | Delaware/Pennsylvania | 2009 | .065
42-091-0013 | Montgomery/Pennsylvania | 2009 | .070
42-101-0004 | Philadelphia/Pennsylvania | 2009 | .059
42-101-0024 | Philadelphia/Pennsylvania | 2009 | .072
34-001-0006 | Atlantic/New Jersey | 2009 | .071
34-007-1001 | Camden/New Jersey | 2009 | .071
34-011-0007 | Cumberland/New Jersey | 2009 | .072
34-015-0002 | Gloucester/New Jersey | 2009 | .071
34-021-0005 | Mercer/New Jersey | 2009 | .071
34-029-0006 | Ocean/New Jersey | 2009 | .071

EPA has determined that the requirements for a one-year extension of the attainment date have been fulfilled as follows:

(1) New Jersey has complied with all requirements and commitments pertaining to the area in the applicable ozone implementation plan. New Jersey's applicable ozone implementation plan can be found at 40 CFR 52.1570. The most recent actions related to New Jersey's applicable ozone implementation plan can be found at EPA's rulemakings: “Approval and Promulgation of Implementation Plans; New Jersey Reasonable Further Progress Plans, Reasonably Available Control Technology, Reasonably Available Control Measures and Conformity Budgets” proposed January 16, 2009 (74 FR 2945) and final rulemaking May 15, 2009 (74 FR 22837); “Approval and Promulgation of Implementation Plans; Implementation Plan Revision; State of New Jersey” proposed April 23, 2010 (75 FR 21197) and final rulemaking August 3, 2010 (74 FR 45483); and “Approval and Promulgation of Implementation Plans; New Jersey; 8-hour Ozone Control Measure” proposed July 22, 2010 (75 FR 42672); and

(2) The maximum 4th highest daily 8-hour monitored value at any monitoring site in the Philadelphia area during the 2009 ozone season was 0.074 ppm, which is below the 0.084 ppm criteria.

Therefore, EPA is proposing to approve the State's request for an extension of the attainment date for the New Jersey portion of the Philadelphia Area to June 15, 2011. If the approval is finalized, the table in 40 CFR 81.331 will be modified to reflect EPA's approval of New Jersey's attainment date extension request. The table is entitled “New Jersey-Ozone (8-Hour Standard).”

III. Conclusion

Pursuant to CAA section 181(a) and 40 CFR 51.907, EPA is proposing to approve an attainment date extension from June 15, 2010 to June 15, 2011 for the New Jersey portion of the Philadelphia Area, which is classified as moderate for the 1997 8-hour ozone NAAQS. EPA is publishing this rule as a proposal in the Proposed Rules section of this Federal Register, and receiving public comments until December 9, 2010.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355 (May 22, 2001)). This action determines, based on air quality considerations and compliance with the State implementation plan, that an area has qualified for a one-year extension of the attainment date of a previously established NAAQS, and imposes no additional requirements. For that reason, this action:

• Will not have a significant economic impact on a substantial number of small entities under the Regulatory Flexibility Act (5 U.S.C. 601 et seq.);

• Does not contain any unfunded mandate or significantly or uniquely affect small governments and therefore does not impose any additional enforceable duties, as described in the Unfunded Mandates Reform Act of 1995 (Pub. L. 104-4).

• Does not have a substantial direct effect on one or more Indian Tribes, on the relationship between the Federal Government and Indian Tribes, or on the distribution of power and responsibilities between the Federal Government and Indian Tribes, as specified by Executive Order 13175 (65 FR 67249, November 9, 2000), nor will it have substantial direct effects on the States, on the relationship between the national government and the States, or on the distribution of power and responsibilities among the various levels of government, as specified in Executive Order 13132 (64 FR 43255, August 10, 1999), because it merely determines that an area has attained a Federal standard, and does not alter the relationship or the distribution of power and responsibilities established in the CAA.

• Is not subject to Executive Order 13045 (62 FR 19885, April 23, 1997), because it is not economically significant.

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

• Will not have disproportionately high and adverse human health or environmental effects on minority or low-income populations because it does not affect the level of protection provided to human health or the environment.

• Does not affect the level of protection provided to human health or the environment because extending the attainment date does not alter the emission reduction measures that are required to be implemented in the Philadelphia Area, which is classified as moderate nonattainment for the 1997 8-hour ozone standard. See 69 FR at 23909 (April 30, 2004).

• Does not impose an information collection burden under the provisions of the Paperwork Reduction Act of 1995 (44 U.S.C. 3501 et seq.).

If the Philadelphia Area were not granted an extension of its attainment date, EPA's recourse would be to initiate a reclassification of the Philadelphia Area from its current classification of moderate nonattainment to serious nonattainment, pursuant to section 181(b)(2) of the CAA. Because the Philadelphia Area was formerly a severe nonattainment area under the revoked 1-hour ozone standard (see 56 FR at 56773, November 6, 1991), it is required to continue to implement severe area requirements pursuant to EPA's interpretation of “anti-backsliding” provision of section 172(e) of the CAA. See 69 FR at 23973, April 30, 2004, South Coast Air Quality Management District v. EPA, 472 F.3d 882 (DC Cir. 2006), modified and rehearing den., 489 F.3d 1245 (DC Cir. 2007). The severe area requirements are more stringent than both the moderate and serious area requirements set forth in Title I, Part D, Subpart 2 of the CAA. Therefore, even if EPA were to not grant the attainment date extension and instead move to reclassify the area to serious nonattainment, no additional emission reduction measures would be required to be implemented in the Philadelphia Area through a 181(b)(2) reclassification.

List of Subjects in 40 CFR Part 81

Environmental protection, Air pollution control.

Authority: 42 U.S.C. 7401 et seq.

Dated: October 20, 2010.
Judith A. Enck,
Regional Administrator, Region 2.

[FR Doc. 2010-28254 Filed 11-8-10; 8:45 am]

BILLING CODE 6560-50-P